DEPARTMENT OF TRANSPORTATION

Federal Transit Administration

[Docket No. FTA-2022-0018]

National Transit Database Reporting Changes and Clarifications

AGENCY: Federal Transit Administration, Department of Transportation (DOT).

ACTION: Notice; Request for comments.

SUMMARY: This notice provides information on proposed changes and clarifications to the National Transit Database (NTD) reporting requirements. Some of the proposed NTD changes would take effect beginning in NTD report year (RY) 2023 or 2024, which corresponds to an agency's fiscal year, while others would take effect in calendar year (CY) 2023.

DATES: Comments are due by September 6, 2022. The Federal Transit Administration (FTA) will consider late comments to the extent practicable.

ADDRESSES: You may file comments identified by docket number FTA-2022-0018 by any of the following methods:

• Federal eRulemaking Portal: Go to https://www.regulations.gov and follow the online instructions for submitting comments.

• Mail: Send comments to Docket Management Facility; U.S. Department of Transportation, 1200 New Jersey Avenue SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: Fax comments to Docket Management Facility, U.S. Department of Transportation, at (202) 493-2251.

Instructions: You must include the agency name (Federal Transit Administration) and Docket Number (FTA-2022-0018) for this notice, at the beginning of your comments. If sent by mail, submit two copies of your comments.

Electronic Access and Filing: This document and all comments received may be viewed online through the Federal eRulemaking portal at http://www.regulations.gov or at the street address listed above. Electronic submission, retrieval help, and guidelines are available on the Federal eRulemaking portal website. The website is available 24 hours each day, 365 days a year. Please follow the instructions. An electronic copy of this document may also be downloaded from the Office of the Federal Register's home page at https://www.federalregister.gov.

Privacy Act: Except as provided below, all comments received into the docket will be made public in their entirety. The comments will be searchable by the name of the individual submitting the comment (or signing the comment, if submitted on behalf of an association, business, labor union, etc.) You should not include information in your comment that you do not want to be made public. You may review DOT's complete Privacy Act Statement in the Federal Register published on April 11, 2000 (65 FR 19477-78) or at https://www.transportation.gov/privacy.

FOR FURTHER INFORMATION CONTACT: Thomas Coleman, National Transit Database Program Manager, FTA Office of Budget and Policy, (202) 366-5333, thomas.coleman@dot.gov.

SUPPLEMENTARY INFORMATION:

Table of Contents

A. Background and Overview

B. New Sample-Based Monthly Data (WE-20)

C. General Transit Feed Specification (GTFS)

D. Collecting Geospatial Data for Demand Response Modes

E. Emergency Contact Information

F. Vehicle Fuel Type

A. Background and Overview

The National Transit Database (NTD) was established by Congress to be the Nation's primary source for information and statistics on the transit systems of the United States. Recipients and beneficiaries of Federal Transit Administration (FTA) grants under either the Urbanized Area Formula Program (49 U.S.C. 5307) or Rural Area Formula Program (49 U.S.C. 5311) are required by law to report to the NTD. FTA grantees that own, operate, or manage public transportation capital assets are required to provide more limited reports to the NTD regarding Transit Asset Management.

Pursuant to 49 U.S.C. 5334(k), FTA is seeking public comment on five proposed NTD reporting changes and clarifications. These proposals are based on changes to Federal transportation law made by the Bipartisan Infrastructure Law, enacted as the Infrastructure Investment and Jobs Act (Pub. L. 117-58) and based on input from the transit industry. These proposed changes are not related to safety and security (S&S) reporting, as FTA is proposing S&S changes in a separate Federal Register notice. The information below describes anticipated reporting impacts from each proposed change or clarification, as well as the proposed effective date of each change. FTA seeks comments on the proposed changes and clarifications described below. All impacts or changes described below are proposed and subject to finalization in a future notice.

B. New Sample-Based Monthly Data (WE-20)

During the recent COVID-19 pandemic, FTA found that it did not have timely data on transit ridership or transit service levels that was sufficient to inform decision-makers at the Federal, State, and local levels during a rapidly changing crisis situation. To better understand changes in the transit industry on a timely basis, FTA proposes to collect additional data from a sample set of modal reports from across the universe of full, reduced, tribal, and rural reporters on a new WE-20 Form. The goal of the sample is to obtain a representative nationwide snapshot of transit ridership and transit service levels. The sampling methodology would use a stratified random sampling based on region, mode, and other factors. FTA would then make sampling adjustments as needed based on unavailable modes, reporters without weekly data access, or other factors. Sampling may not be purely random to ensure the accuracy of the nationwide estimate of ridership and service levels. Therefore, NTD reporters with the largest service levels nationally or regionally may be more likely to be selected multiple times to ensure the accuracy of the nationwide estimate.

For the sampled modes, FTA proposes to collect four data points once each month:

• Weekday 5-day unlinked passenger trip (UPT) total for the reference week;

• Weekday 5-day vehicle revenue miles (VRM) total for the reference week;

• Weekend 2-day unlinked passenger trip (UPT) total for either the weekend preceding or following the reference week; and

• Weekend 2-day vehicle revenue miles (VRM) total for either the weekend preceding or following the reference week.

Under this proposal, these data will be due three business days after the last day of the reference week. In general, FTA is proposing to designate the second full week of the month as the “reference week,” unless the reference week contains a Federal holiday. FTA will inform reporters for the selected modes of the precise dates of the reference week at least three months in advance and will list the precise dates of the reference week on the form. For example, the reference week for July 2023 would cover July 10-16, and data for that week would be due three business days later—by the end of the day on July 19. FTA will also give three months advance notice about whether FTA will require agencies to report UPT and VRM data for the weekend preceding or the weekend following the reference week.

FTA proposes to require a sampled subset of approximately 400 NTD reporters to report these data for at least one mode. FTA proposes that sampled reporters remain constant for a period of three consecutive calendar years after the effective date of the reporting requirement. The reporting requirement effective date is proposed to be approximately three months following the publication of the final notice. For instance, if FTA publishes the final notice in February 2023, FTA estimates the reporting requirement would take effect around May 2023. At this time, reporters would be asked to submit a week of data for May 2023, as well as for the prior months in calendar year 2023 on a one-time basis (January 2023-April 2023). Subsequently, reporters would be required to submit a week of data for May 2023 and each month following. FTA would update the sampled group in 2026. FTA proposes to identify which NTD reporters are part of the sample with at least three months' notice.

FTA proposes that the reporting standard for the data on the WE-20 Form will be “best available data.” Best available data will depend on the facts and circumstances and the extent of data available to each agency. The data could be preliminary or minimally validated (e.g., non-zero). Furthermore, FTA understands that these data reports might not be as complete as the agency's regular monthly NTD data reports and might not be audited. These weekly data would not be used to ensure alignment of annual report data totals as is currently done with monthly data. These data for the reference week will not replace the regular monthly report on the MR-20 form for full reporters.

C. General Transit Feed Specification (GTFS)

The Bipartisan Infrastructure Law amended 49 U.S.C. 5335(a) to require FTA to collect “geographic service area coverage” data through the NTD. Transit agencies across the country have made significant progress in recent years to record and publish geographic transit data in a consistent manner. Specifically, FTA estimates that 35% of NTD reporters have adopted the General Transit Feed Specification (GTFS) standard. The GTFS specification significantly increases the utility of transit service data, enabling current and accurate snapshots of transit service that support mobile applications such as mapping and routing services.

To implement this data collection requirement, and in light of the existing widespread GTFS adoption, FTA proposes to require annual submissions of static GTFS data to the NTD. In this notice, GTFS standards refer to the May 9, 2022 version of GTFS, which are published here: https://gtfs.org/reference/static#field-definitions. At present, NTD reporters voluntarily submit web links to GTFS datasets for the National Transit Map (NTM). More information about the NTM can be found here: https://www.bts.gov/national-transit-map/about.

FTA is proposing this requirement to enable consistent submissions of geographic service area coverage data. FTA believes that GTFS is the best way to collect geographic service area coverage data for fixed-route service because it is already widely used and meets specific, practical needs in communicating service information in a standardized format. GTFS defines a common format for public transportation schedules and associated geographic information. The standardized specifications ensure data consistency and minimum requirements are met and allows data from across the United States to be aggregated, used, and analyzed in a consistent manner.

Mandatory Requirement

FTA is proposing to make GTFS reporting a mandatory requirement. Under this proposal, NTD reporters with fixed route modes must create and maintain a public domain GTFS dataset that reflects their fixed route service. These NTD reporters must also maintain a web link from which the GTFS dataset can be collected. Specifically, FTA proposes that agencies create and host one or more web links containing their GTFS data. Each web link must link to a compressed (.zip or `zip') archive containing at least one copy of each of the required text files listed below under GTFS Data Requirements, covering all fixed route modes. If an agency demonstrates hosting a web link is not possible, FTA will accept GTFS zip archive file submission by email. This requirement would not apply to capital asset-only reporters.

FTA is proposing to implement this reporting requirement in two parts. First, FTA is proposing that in RY 2023, applicable NTD reporters will be required to establish and submit a web-hosted GTFS dataset for their fixed route service. The dataset may have multiple links, such as one per mode. All links must be persistent (i.e., static), machine readable, and not password protected. FTA expects this to be a one-time requirement. Once an agency publishes the data, it can be maintained in that form at the persistent web link for subsequent reporting years.

Second, beginning in RY 2024, FTA is proposing that applicable NTD reporters certify annually via the D-10 certification form that their previously submitted web links are up to date. All fixed route service changes must be reflected in the previous weblink with the GTFS dataset. Specifically, if there are changes to fixed routes, the reporter must update the GTFS dataset at the previously submitted web link. FTA does not expect this to be a large administrative burden because fixed route service changes are infrequent.

FTA is proposing that if a reporter cannot publish a GTFS dataset, they must email their NTD analyst and explain why hosting a web link is not possible. FTA is proposing that reporters that are unable to host a web link to a GTFS dataset must submit their geographic service area coverage data via alternative means, e.g., email. FTA expects the majority of agencies will be able to web-host GTFS datasets via web links that are persistent, machine readable, and not password protected.

FTA is proposing that this new requirement apply to full reporters, reduced reporters, tribal reporters, and rural reporters, but not capital asset-only reporters. This requirement would apply only to reporters that operate a fixed route mode. FTA is proposing that in cases where an NTD reporter reports on behalf of multiple reporters (such as a State for multiple rural reporters), the State will be required to submit at least one unique link or compressed file per unique NTD reporting ID (NTDID). If the NTDID has multiple GTFS links for multiple modes, the reporter may submit these multiple links.

GTFS Data Requirements

GTFS ensures data consistency by establishing minimum requirements. Specifically, GTFS requires that an overarching compressed file contain, at a minimum, seven underlying text files: (a) Agency; (b) Stops; (c) Routes; (d) Trips; (e) Stop Times; (f) Calendar or Calendar Dates.txt; and (g) Feed Info.txt. An eighth file, Shapes.txt, is an optional file, but it is recommended to make the files more useful for geospatial mapping purposes. Additionally, within each file, some fields are noted as “optional.” Optional fields are recommended in the file(s) mentioned above since they improve the usefulness of the datasets for data users.

Detailed information about the fields required for each of these files is published here: https://gtfs.org/reference/static#field-definitions.

Development Assistance

For transit systems that currently operate fixed route modes, but lack existing web-hosted GTFS datasets, FTA will provide technical assistance. Existing available technical assistance includes:

• Free technical assistance instructions through the National Rural Transit Assistance Program (RTAP) website: https://www.nationalrtap.org/Technology-Tools/GTFS-Builder; and

• Bureau of Transportation Statistics, National Transit Map Frequently Asked Questions: https://www.bts.gov/national-transit-map/frequently-asked-questions. Reporters may also consider partnering with a local college or university for technical assistance in establishing a GTFS feed. Additionally, FTA is proposing that NTD reporters can request a one-year waiver of this requirement with documentation that they are seeking technical assistance for establishing GTFS data, such as a plan with dates and milestones demonstrating how the reporter will comply with the GTFS requirement.

Compliance

FTA is proposing to monitor compliance in two ways. First, FTA proposes to periodically check that web links are viable and current, reflecting fixed route service stops, routes, and schedules. Second, on an annual basis, FTA proposes to ask reporters to confirm the accuracy of their GTFS feeds as part of their annual kick-off task. The kick-off is the NTD's system task which confirms information to create the relevant reporting forms for the new fiscal year.

Phasing

FTA expects reporting burdens to vary depending on existing agency data processes. NTD reporters are likely in three different phases of offering GTFS data feeds. First, some NTD reporters already submit GTFS data feeds voluntarily to the NTD. Second, some reporters have GTFS feeds but have not submitted these feeds to the NTD. Third, some reporters do not yet have GTFS feeds.

FTA anticipates the greatest challenges will be for those reporters who do not have GTFS feeds yet, or States who currently report data on their behalf (e.g., States for rural reporters). FTA has identified some technical assistance resources to assist in the development of GTFS feeds (listed above). FTA proposes that reporters will not have to submit new GTFS data or required updates to the NTD until RY 2023. FTA welcomes comments requesting technical assistance or describing specific barriers or issues related to developing or submitting GTFS data.

Upon publication, all GTFS data submitted to the NTD will enter the public domain.

D. Collecting Geospatial Data for Demand Response Modes

FTA proposes that beginning in RY 2023 certain demand response modes must report geospatial data to the NTD. FTA will begin collecting these data to implement the new requirement that FTA collect geographic service area coverage data. FTA is proposing that this new requirement apply to full, reduced, tribal, and rural reporters, but not capital asset-only reporters. FTA is proposing to collect geospatial data for non-fixed routes using a new NTD form. FTA is proposing to collect these data annually through the questions shown below:

(1) Do you serve residents in another State besides your State?

(2) Select the Counties that you serve, either in whole or in part, where you pick up residents for a new trip origination.

(3) Select Census `Places' served in these counties; indicate whether these Places (e.g., Township) are served, and whether these Places are partially or wholly served.

(4) Is your demand response service intended to meet the Americans with Disabilities Act (ADA) complementary paratransit requirements for a fixed route system?

(5) If yes to #4, is your service area limited to the ADA complementary paratransit distance for:

a. Your own NTD Reporter ID; or

b. Select all those that are not your NTD Reporter ID.

(6) Within your service area, do you have different passenger eligibility requirements or different terms and conditions of service?

(7) How many days per week do you operate?

(8) For each day of the week, what are your hours of operation, and is your service open to:

(a) Only those persons found eligible for complementary paratransit under the ADA through your local eligibility process?

(b) Another specific segment of the population defined by age or disability?

(c) The general population?

(9) What is the minimum advanced reservation time for your service? Select days or hours.

(10) What is the fare charged?

FTA is proposing to begin asking these questions on a new form beginning in RY 2023.

E. Emergency Contact Information

At present, the NTD requires that each organization submit organizational contact information on the P-10 form. The P-10 collects details such as organization name, address, and website. FTA proposes that beginning in RY 2023, FTA will also collect the organization's emergency contact information on the P-10 form. This emergency contact does not have to be the same person as someone with an existing NTD system role. FTA proposes to use this emergency contact information to facilitate communication between FTA and the reporter during emergencies. Maintaining a current emergency point of contact (POC) will allow FTA to quickly send updated relevant information to the right contact and ensure communication before, during, and after the emergency event.

FTA proposes that the emergency contact be someone affiliated with emergency preparedness or response functions. This includes an emergency liaison officer, a facility or building emergency response team member, or a person with similar job functions. This person must be the individual at an agency that is the FTA POC in the event of an emergency. The agency will be asked to certify the accuracy of this information on their annual kick-off task.

F. Vehicle Fuel Type

The Bipartisan Infrastructure Law provides historic investments towards converting the Nation's transit fleet to zero-emission and low-emission vehicles. Currently, FTA collects vehicle fuel type only from full and reduced reporters on the A-30 form. Tribal, rural, and capital asset-only reporters do not report fuel type on the A-30 form. In order to track implementation of zero-emission and low-emission vehicles funded by the Bipartisan Infrastructure Law, FTA is proposing to add a question to the A-30 form for rural, tribal, and capital asset-only reporters about fuel type. FTA proposes to apply this change beginning in RY 2023.

Nuria I. Fernandez,
Administrator.

[FR Doc. 2022-14502 Filed 7-6-22; 8:45 am]

BILLING CODE 4910-57-P